DEPARTMENT OF AGRICULTURE

Farm Service Agency

Commodity Credit Corporation Information Collection; Noninsured Crop Disaster Assistance Program

AGENCY: Farm Service Agency and Commodity Credit Corporation and, USDA.

ACTION: Notice; request for comment.

SUMMARY: In accordance with the Paperwork Reduction Act of 1995, the Farm Service Agency and the Commodity Credit Corporation are seeking comments from all interested individuals and organizations on the extension of a currently approved information collection in support of the Noninsured Crop Disaster Assistance Program (NAP). The information collected is needed for producers to determine eligibility to obtain NAP assistance.

DATES: We will consider comments that we receive by July 9, 2010.

ADDRESSES: We invite to submit comments on this notice. In your comments, include date, volume, and page number of this issue of the Federal Register. You may submit comments by any of the following methods:

• Mail: Candance Thompson, Acting Division Director, Production, Emergencies, and Compliance Division, Farm Service Agency, USDA, Mail Stop, 1400 Independence Avenue, SW., Washington, DC 20250-0522.

• E-Mail: Candy.Thompson@wdc.usda.gov.

• Fax: 202-690-2130.

You may also send comments to the Desk Officer for Agriculture, Office of Information and Regulatory Affairs, Office of Management and Budget, Washington, DC, 20503.

FOR FURTHER INFORMATION CONTACT: Terry Hill, Section Head, Crop Disaster Section, Disaster Assistance Branch, (202) 720-3087.

SUPPLEMENTARY INFORMATION:

Description of Information Collection

Title: Noninsured Crop Disaster Assistance Program.

OMB Number: 0560-0175.

Expiration Date: November 30, 2010.

Type of Request: Extension with no revision.

Abstract: The NAP is authorized under 7 U.S.C. Section 7333 and implemented under regulations issued at 7 CFR Part 1437. The NAP is administered under the general supervision of the Executive Vice-President of CCC (who also serves as Administrator, FSA), and is carried out by FSA State and County committees. The information collected allows CCC to provide assistance under NAP for losses of commercial crops or other agricultural commodities (except livestock) for which catastrophic risk protection under 7 U.S.C Section 1508 is not available, and that are produced for food or fiber.

Additionally, NAP provides assistance for losses of floriculture, ornamental nursery, Christmas tree crops, turfgrass sod, seed crops, aquaculture (including ornamental fish), sea oats and sea grass, and industrial crops. The information collected is necessary to determine whether a producer and crop or commodity meet applicable conditions for assistance and to determine compliance with existing rules. Producers must annually: (1) Request NAP coverage by completing an application for coverage and paying a service fee by the CCC-established application closing date; (2) file a current crop-year report of acreage for the covered crop or commodity; and (3) certify production of each covered crop or commodity. When damage to a covered crop or commodity occurs, producers must file a notice of loss with the local FSA administrative county office within 15 calendar days of occurrence or 15 calendar days of the date damage to the crop or commodity becomes apparent. Producers must also file an application for payment and certification of income with the local FSA County office.

Estimate of Burden: Public reporting burden for this information collection is estimated to average 0.6 hours per response.

Type of Respondents: Producers of commercial crops or other agricultural commodities (except livestock).

Estimated Annual Number of Respondents: 291,500.

Estimated Annual Number of Forms Filed per Respondent: 3.

Estimated Total Number of Responses: 2,167,302.

Estimated Total Annual Burden Hours: 2,143,562.

We are requesting comments on all aspects of this information collection and to help us to:

(1) Evaluate whether the collection of information is necessary for the proper performance of the functions of the agency, including whether the information will have practical utility;

(2) Evaluate the accuracy of the agency's estimate of the burden, including the validity of the methodology and assumptions used;

(3) Enhance the quality, utility, and clarity of the information to be collected;

(4) Minimize the burden of the collection of information on those who are to respond, including through the use of automated, electronic, mechanical, or other technological collection techniques or other forms of information technology.

All comments received in response to this notice, including names and addresses when provided, will be a matter of public record. Comments will be summarized and included in the submission for Office of Management and Budget approval.

Signed at Washington, DC, on May 3, 2010.
Jonathan W. Coppess,
Administrator, Farm Service Agency, and Executive Vice-President, Commodity Credit Corporation.

[FR Doc. 2010-10914 Filed 5-7-10; 8:45 am]

BILLING CODE 3410-05-P